DEPARTMENT OF TRANSPORTATION

Federal Transit Administration

National Technical Assistance Center for Parks and Public Lands

AGENCY: Federal Transit Administration (FTA), Department of Transportation (DOT).

ACTION: Notice: Request for Proposals.

SUMMARY: This solicitation is for proposals from organizations to implement a National Technical Assistance Center for Alternative Transportation in Public Lands. The Center is to assist the Federal Transit Administration (FTA) in the coordinated provision of technical assistance under the Paul S. Sarbanes Transit in Parks program. The Center is to develop, administer, distribute, and oversee multiple technical assistance products to support land management agencies, States, and local and tribal governments in alternative transportation projects serving federally managed parks and public lands. Organizations that submit proposals should have technical assistance expertise and experience in transportation planning, coordination and operations on parks and public lands. FTA will award a cooperative agreement (one base year plus two option years) for an estimated amount of $4,500,000. The funding is authorized under section 3021(d)(1) of the Safe, Accountable, Flexible, Efficient Transportation Equity Act: A Legacy for Users (SAFETEA-LU) and subsequently appropriated. For the first year of the project, $1,500,000 will be made available. Funding for subsequent years will be based on available annual appropriations as well as annual performance reviews.

Use of Funds: The organization selected shall (1) provide on-demand and proactive technical assistance in alternative transportation project-level scoping, planning, and operations; (2) provide training and workshops; (3) perform outreach, communications, and coordination of services to support land management agencies in planning processes; (4) maintain a central repository of resources and disseminate resources; (5) support the project evaluation process; (6) convene and collaborate with an interagency peer review group; and (7) perform project administration and management.

DATES: Proposals must be submitted electronically by December 30, 2008.

ADDRESSES: Proposals shall be submitted electronically to http://www.grants.gov. Grants.Gov allows organizations to find and apply for funding opportunities electronically from all Federal grant-making agencies. Grants.Gov is the single access point for over 1,000 grant programs offered by the 26 Federal grant-making agencies.

FOR FURTHER INFORMATION CONTACT: Scott Faulk, Office of Program Management, Federal Transit Administration, 202-366-1660; FAX 202-366-7951; e-mail: Scott.Faulk@dot.gov.

SUPPLEMENTARY INFORMATION: Section 3021 of SAFETEA-LU established a new program called the Paul S. Sarbanes Transit in Parks program (49 U.S.C. 5320). The purpose of this program is to enhance the protection of national parks and Federal lands, and increase the enjoyment of those visiting them. The program funds capital and planning expenses for alternative transportation systems such as buses and trams in federally-managed parks and public lands. The Paul S. Sarbanes Transit in Parks legislation further allows the FTA to spend program funds to carry out planning, research, and technical assistance activities. FTA oversees the funds allocated to technical assistance to support program participants in planning, implementing, and evaluating alternative transportation projects on parks and public lands. SAFETEA-LU authorizes $97 million in funding for the program for Fiscal Years (FY) 2006 through 2009. Of this funding, no more than 10 percent of the amount made available for any given FY under section 49 U.S.C. 5338(b)(2)(J) may be used to carry out planning, research, and technical assistance activities.

I. Funding Opportunity Description

FTA is soliciting proposals for a cooperative agreement to develop and implement a program of technical assistance and training for Federal land management agencies that shall include on-demand and proactive technical assistance in project-level scoping and planning, a resource clearinghouse, training and workshops, publication of best practices, and preparation of technical manuals and other reference materials. The Paul S. Sarbanes Transit in Parks program would be well-served through a coordinated and efficient use of its limited resources. A National Technical Assistance Center for alternative transportation on parks and public lands is intended to meet technical assistance needs among land management agencies and other eligible awardees and to achieve program and process consistencies, realize significant cost and time savings, and build cooperative relationships in support of the Paul S. Sarbanes Transit in Parks program. Such technical assistance will allow Federal lands to serve the public more effectively through enhanced conservation of natural and cultural resources and by providing high quality experiences for visitors on public lands.

The main goal of a National Technical Assistance Center for Alternative Transportation on Parks and Public Lands is to assist FTA in the timely, coordinated provision of technical assistance, case management, and program support elements of SAFETEA-LU, section 3021. To accomplish this goal the Center is to develop, administer, disseminate, and oversee multiple technical assistance products and services to support land management agencies and State, local, and tribal governments in alternative transportation projects serving federally managed parks and public lands. FTA will award a cooperative agreement (one base year with two option years) of $4.5 million from funding authorized in SAFETEA-LU and subsequently appropriated. The tasks of the Center include: (1) Project administration and management; (2) organization of and coordination with a peer review group; (3) technical assistance; (4) training and workshops; (5) development of outreach, communication and coordination in support of alternative transportation planning; and (6) knowledge management and information dissemination. A desirable organization will have demonstrated expertise in issues of transportation planning and operations on parks and public lands. Ideally, an organization will have experience in providing technical assistance to Federal land management agencies on issues related to water and land-based transportation, particularly in relation to the protection of natural and cultural resources.

Background

Congestion in and around parks and public lands causes traffic delays and noise and air pollution that substantially detract from the visitor's experience and the protection of natural resources. In August 2001, the Department of Transportation (DOT) and the Department of the Interior (DOI) published a comprehensive study of alternative transportation needs in national parks and related federal lands. The study identified significant alternative transportation needs at sites managed by the National Park Service (NPS), the Bureau of Land Management (BLM), and the United States Fish and Wildlife Service (FWS). Additionally, a supplement to this report identified United States Department of Agriculture Forest Service (FS) sites that would benefit from such services. Section 3021 of SAFETEA-LU (49 U.S.C. 5320) addresses these needs by establishing a new program called the Paul S. Sarbanes Transit in Parks program to fund alternative transportation projects in national parks and other federal lands. The goals of the program are to: (1) Conserve natural, historical, and cultural resources; (2) reduce congestion and pollution; (3) improve visitor mobility and accessibility; (4) enhance visitor experience; and (5) ensure access to all, including persons with disabilities.

Eligible applicants to the Paul S. Sarbanes Transit in Parks program include: federal land management agencies, which are defined as federal agencies that manage an eligible area; and State, tribal, and local governments with jurisdiction over land in the vicinity of an eligible area, acting with the consent of a federal land management agency, alone or in partnership with a federal land management agency or other governmental or non-governmental participant. An eligible area is a federally owned or managed park, refuge, or recreational area that is open to the general public.

A qualified alternative transportation project is a planning or capital project in or in the vicinity of a federally owned or managed park, refuge, or recreational area that is open to the general public and meets the goals of the program. SAFETEA-LU defines alternative transportation as “transportation by bus, rail, or any other publicly or privately owned conveyance that provides to the public general or special service on a regular basis, including sightseeing service. The definition of alternative transportation also includes non-motorized transportation systems (including the provision of facilities for pedestrians, bicycles, and non-motorized watercraft)” (49 U.S.C. 5320(b)(3)).

To formalize the Paul S. Sarbanes Transit in Parks program management structure, section 3021 of SAFETEA-LU authorizes the establishment of interagency and multi-disciplinary teams to develop federal land management agency alternative transportation policy, procedure, and coordination; and the development of procedures and criteria for the planning, selection, funding, implementation and oversight of a program of projects. As a result, the Paul S. Sarbanes Transit in Parks Interagency Working Group was established and consists of representatives from FTA, DOI, NPS, BLM, FWS, and USFS, and meets regularly in order to coordinate program activities. Paul S. Sarbanes Transit in Parks program-related activities such as providing workshops and training, technical assistance in project-level scoping and planning, publication of best practices, and providing manuals and other reference materials are subject to advisement by the Interagency Working Group.

To date, FTA has provided technical assistance products including a program manual and a “webinar”-style workshop that supplies information on the program and guidance on applying for Paul S. Sarbanes Transit in Parks funding (available at http://www.fta.dot.gov/atppl). A limited number of transportation assistance group (TAG) visits have been made available to assist potential project sponsors in the initial stages of planning; several such visits have been completed and subsequent reports have been produced. A National Technical Assistance Center will allow the FTA to more efficiently support alternative transportation related activities in parks and public lands by providing a “one-stop”, coordinated resource for future technical assistance activities and products.

Scope of Work

This solicitation is for proposals from organizations to implement a National Technical Assistance Center for Alternative Transportation in Public Lands. The Center is to assist the Federal Transit Administration (FTA) in the coordinated provision of technical assistance under the Paul S. Sarbanes Transit in Parks program. The Center is to develop, administer, distribute, and oversee multiple technical assistance products to support land management agencies, States, and local and tribal governments in alternative transportation projects serving federally managed parks and public lands. In the performance of this cooperative agreement, the awardee shall accomplish the following tasks:

Task 1—On-Demand and Proactive Technical Assistance in Alternative Transportation Project-level Scoping, Planning, and Operations

A. The Center shall conduct a comprehensive assessment of technical assistance needs in the area of alternative transportation on federally managed lands and public parks. Based on this information the Center will formulate a technical assistance strategy and plan in coordination with FTA, Federal Lands Highway, DOI, NPS, FWS, BLM, and FS staff members of the Paul S. Sarbanes Transit in Parks program Interagency Working Group.

B. The Center shall respond to and pro-actively solicit project-specific technical requests, including full-time Center staff answering questions and providing technical expert and advice by phone and email, with occasional site visits as needed and subject to funding availability. Center staff would also link outside technical specialists to requesters. The primary goal of this deliverable is to maintain access to a wide variety of technical expertise that could be made available on multiple topic areas through this centralized service. Examples of assistance that the awardee will provide include (but may not be limited to) assistance in project cost estimating; financial analysis/planning; carrying capacity; transit planning; vehicle specifications and procurement; transit operations; alternative fuels; congestion management; data collection and monitoring; contracting; safety; transportation and resource protection; and/or historic landscapes and/or transportation infrastructure. Technical expertise is often needed for matters of detailed study, and for periods of short duration (i.e. assistance to a park or public land in data collection or in facilitating a technical project review that can vary between a few days to a week). These types of requests are necessary to ensure that alternative transportation projects maintain a high degree of technical quality and that they continue to meet the objectives of the Paul S. Sarbanes Transit in Parks program. Technical assistance is also needed on an ongoing basis to assist project sponsors over the period of months or years in the development and implementation of a project. It is important to have continuing, reliable support for project sponsors.

C. The awardee shall develop and maintain a strategy and resources for on-demand project teams and consultants. In addition to responding to requests, the Center will be pro-active in soliciting requests, through advertising its services via electronic announcements or a newsletter, and contacting Paul S. Sarbanes Transit in Parks program awardees and potential applicants. The Center will develop relationships with Federal land managers, Tribal, State and metropolitan planning organizations and other Federal participants in transportation planning.

D. The awardee shall track, measure and evaluate the performance of the Center in providing technical assistance, and monitor progress towards targeted goals and outcomes. This may include development of a unique identification classification system that allows for tracking and reporting on services provided to the requester by the Center.

Task 2—Providing Training and Workshops

A. Curriculum development, design, and training shall be made available by the Center via various media to target specific topics related to alternative transportation in parks and public lands. Development of curriculum and training shall be done in coordination with the FTA project manager, and members of the Interagency Working Group. This includes training agencies that are targeted awardees of program assistance, as well as prospective partners of such agencies and corresponding transportation planning agencies that will need to reflect Paul S. Sarbanes Transit in Parks program initiatives in statewide and regional plans and programs.

B. The awardee shall make 4-6 training sessions and/or workshops per year available via various media to target specific topics related to alternative transportation as it relates to the enhancement of visitor experience and natural resource protection across the range of land management areas. For instance, transit routing and scheduling for land management agencies, context sensitive transit solutions in federal lands, strategies to increase ridership among recreational visitors, partnership strategies between transit agencies, coordinating with local planning organizations, transit planning, vehicle procurement, and basics of transit operations. Training should be made available to Federal lands management agency staff, resource agencies, transit agencies, State departments of transportation, local governments, and State, regional and metropolitan planners. A technical assistance center Web site should provide the primary framework for organizing offerings of training and for communicating and/or disseminating materials.

C. The awardee shall host at least two (2) regional forums in geographic areas where there are particularly good opportunities for partnerships between various types of entities. The awardee will convene federal lands managers, transit agencies, State departments of transportation, local officials, planners, and other stakeholders to discuss opportunities to include alternative transportation serving federal lands and the Paul S. Sarbanes Transit in Parks program.

D. The Center will facilitate details of meeting and possible related travel arrangements for transportation professionals to speak, facilitate, or lead a training opportunity offered as part of the Center's services. Travel expenses associated with the delivery of training services by the Center are subject to approval by the FTA project manager at least 120 days prior to scheduled training delivery date.

Task 3—Outreach, Communications, and Coordination of Services To Support Land Management Agencies in Planning Processes

A. The Center will establish an Outreach and Communications Operations Strategy of the Center that addresses consistent partnership processes, policies and procedures in support of the facilitation and coordination of communication and interaction between Federal lands managers, metropolitan planning organization (MPOs), States, and other Federal participants in transportation planning. The strategy shall be accomplished via e-mail, phone, Web-based services and on-site opportunities. This deliverable would require that the Center support the facilitation of partnerships through convening conference calls and meetings, answering technical questions, referral of participants to publications and other experts in order to assist land management agency in developing partnerships, hiring planning firms, and contracting for transportation services.

B. The Center shall advise and/or assist land management agencies in their participation in transportation planning processes. The goal of this deliverable is to address the needs of federal park and public lands managers to engage in and be consistent with the metropolitan and Statewide planning and public participation requirements found in 49 U.S.C. 5303, 5304, and 5307(d). Federal lands, resource agencies, States and metropolitans alike need assistance to fulfill the consultation and participation requirements of the law. Statutory transportation planning requirements associated with U.S. DOT funding sources promote close coordination of transportation system plans, programs and projects between the federal lands agencies and corresponding state and regional transportation planning organizations. The Center shall assist in the successful development of alternative transportation planning processes consistent with federal land management agencies, State, regional, and metropolitan planning processes under Titles 23 and 49.

C. The Center shall provide assistance to land management agency units for review of planning studies funded under the Paul S. Sarbanes Transit in Parks program in order to ensure their quality and efficacy before a participant moves towards implementation. The Center shall cooperate with land management staff in the development of plans that are consistent with the planning processes and requirements under Titles 23 and 49.

D. The Center shall develop a total of four (4) partnering case studies (at least one per land management agency) plus a synthesis report that describes successful alternative transportation partnerships. Case studies would include examples of partnerships between federal lands agencies (other than NPS) and other entities that may include: Transit agencies that provide transit service to public lands; private companies such as ski resorts, bike rental companies, or other concessioners that fund transportation services on or to public lands; State governments providing grants; or private or public service providers. Case studies may also include successful examples of federal lands and others combining funding sources such as federal lands fees, state and local taxes, federal transportation grants, and private sources. Because most national parks and public land units view visitor transportation as necessary but not a primary mission, partnerships or contractual relationships are often sought to address visitor transportation needs in ways that minimize the cost to park and public lands agencies, both in terms of staff and financial resources required.

E. The awardee shall develop and produce ‘best practices’ manuals that would specifically focus on and discuss practices used in and aspects of the planning processes and implementation of successful alternative transportation systems in public lands. Generally, manuals would be available in electronic format and would address such issues as: How systems were developed; who the partners were and what each contributed; what service is provided; how the service is used; ridership; what benefits the system provides; cost information; how it is funded and who operates the system; what is the arrangement with the operator; how particular challenges were overcome, etc. Additionally, the awardee shall develop a manual that provides methodology for the evaluation of newly instituted and existing alternative transportation systems and services that would serve the purposes of making operational adjustments for greater efficiency and to inform management decisions about whether to sustain, expand, or curtail the service, as well as providing a rich source of lessons learned for reference by others seeking to plan and implement comparable alternative transportation services.

F. The awardee shall coordinate all aspects of the management and implementation of the Paul S. Sarbanes Transit in Parks Web site (http://www.fta.dot.gov/atppl), which includes (a) maintaining and updating all information for each section of the Web site using best available technologies on a regularly scheduled basis; (b) updating the front page once each month; (c) entering up to 5 useful practices in the database each month; (d) posting documents and/or announcements per month; (e) maintaining an active list serve and consistent distribution of real-time information using best available and searchable technology; (f) responding to submissions to the Paul S. Sarbanes Transit in Parks electronic mailbox within 3 business days; and (g) providing ongoing recommendations for improvement strategies as needed. All documents and information posted on the Web site must meet the requirements and compliance of section 508 of the Rehabilitation Act. The awardee shall work with the Project Officer to establish a plan for approval of content for posting and disseminating information using these mechanisms.

G. The awardee shall produce other technical assistance manuals as needed and determined through task 6.

H. The awardee shall provide research-related technical assistance to project managers responsible for planning alternative transportation that provide access to or within Federal land management areas. This includes queries regarding specific information, publications, existing tools (such as trip planners or other mobility management tools), strategies and available data as requested.

I. The Center will identify transit services that are operating near federal lands and work with the transit operator and federal land to advertise the transit option to federal land users. Where a transit option for accessing the federal land already exists the Center will assist, when requested, to coordinate service to make it more simple and convenient for the user.

J. The Center will facilitate peer-to-peer learning by matching project sponsors with others who are in different stages of the process, convening conference calls, holding meetings, conducting outreach, and providing other opportunities for peer-to-peer learning.

K. The Center will also facilitate details of travel arrangements for transportation professionals to federal land units. This may include paying salaries and direct expenses for transportation professionals working full time with a federal land unit on alternative transportation.

Task 4—Maintain Central Repository of Resources and Disseminate Resources

A. The Center shall establish a central repository of resources, make them readily accessible, and disseminate them broadly. The repository will include technical manuals, best practices, studies, reports, guides, articles, videos, training manuals, on-line resources, etc. related to alternative transportation in parks and public lands. The five deliverables of this task are: (1) Complete an inventory of relevant materials produced to date; (2) publish this inventory on the web, providing up to date and user friendly access to the resources on-line; (3) target and distribute resources to program beneficiaries; (4) maintain a list serve to distribute new resources that are developed; (5) determine which materials should be consolidated, updated, or otherwise built upon to increase the effectiveness of materials and consolidate, update, and build upon under tasks 5D and 5E; and (6) determine gaps in the literature that the Center should fill by producing a new report and produce this report under tasks 5D, E, and F. This deliverable includes compiling and assessing all previous relevant materials produced by DOI, NPS, FWS, BLM, FS, DOT, Transportation Research Board, Transit Cooperative Research Program, universities, associations, private companies, State and local governments and others and therefore requires a survey of existing literature and materials.

B. The Center shall develop an interagency database concept and implementation strategy for alternative transportation system data collection and sharing. A key finding of earlier efforts is that alternative transportation system data is best captured from other existing data systems that are being given priority attention. Examples of existing data systems include Asset Management in DOI and corresponding efforts within the U.S. Forest Service.

C. The awardee shall develop and maintain the Paul S. Sarbanes Transit in the Parks Technical Assistance Center Web site that provides the primary framework for organizing offerings of training and for communicating and/or disseminating training-related materials and details.

Task 5—Support the Project Evaluation Process

The Center shall perform the following for 80-100 project proposals per year:

A. Develop an electronic system (FTP/Web-based) for submission and organization of project proposals and supporting materials.

B. Compile project proposals from the federal land management agencies (FLMA) and FTA.

C. Organize project proposals in a logical, easy to find fashion, that can be sorted by the following measures: type of project (planning vs implementation); alphabetical by FLMA; alphabetical by state; funding requested (largest to smallest).

D. Populate the Paul S. Sarbanes Transit in Parks database with data from the proposals submitted for the program. FTA will provide the database structure to the center.

E. Develop an Excel spreadsheet of all proposals received with key summary information about the proposal (land unit, state, agency, type of project, one sentence project description, funding request, name of awardee of funds).

F. Submit a summary report of proposals received such as aggregate dollar amount requested and breakdowns by types of project, land management agency, new system vs. existing system, etc.

G. Distribute the organized proposals, database figures, summary spreadsheet, and summary report on a CD and in a three-ring binder (hard copy) to each member of the review committee.

H. Compile evaluation rating forms from FTA for each member of the review committee, enter the ratings and comments into a database, organize this information, and report it to the review committee members.

I. Coordinate continuously with FTA staff and respond to FTA requests for information. FTA will have access to the database, summary spreadsheet, list of projects and other deliverables at all times.

J. Draft a “lessons learned” document, in coordination with FTA and FLMA staff, for consideration in managing the evaluation process for subsequent years.

Task 6—Convene and Collaborate With a Peer Review Group

A. The awardee shall establish and coordinate with a Peer Review Group consisting of representatives from National Parks Conservation Association, Transportation Review Board (TRB) Transportation in Public Lands Committee, and other public land-related associations, transit general managers, managers of public lands that have or are planning alternative transportation systems, State and local DOT's, American Public Transportation Association (APTA), American Association of State Highway Transportation Officials (AASHTO), Association of Metropolitan Planning Organizations (AMPO), American Bus Association, and other applicable organizations. The Peer Review Group will identify and review materials for the development of a central repository of resources and information. The Group may offer advice on technical assistance coordination, and provide input regarding development of alternative transportation systems and infrastructure.

B. The awardee, in coordination with the FTA Project Officer, may provide assistance to the Peer Review Group on a regular basis. This may include organizing conference calls as needed, attending relevant and value-added national meetings/conferences, providing input regarding the development of Peer Review Group activities related to alternative transportation project planning and implementation in Federal lands management areas, formulating agendas and identifying speakers for the Peer Review Group and their meetings.

C. Assist Federal program staff to conduct at least one special interest meeting to be delivered via electronic, Web-based means each year. The initial meeting should detail the Center's central repository development, organization, and how to access information for land management field staffs. Subsequent annual meetings should be made accessible via electronic, Web-based delivery and focus on targeted topics selected in consultation with FTA, members of the Interagency Working Group, and members of the Peer Review Group. Special interest meetings should target topics to include stakeholders from National, State, regional and local levels that have expertise on the selected topic addressed at the meeting. For each workshop or meeting, participant lists and invitations for the meeting should be submitted to the Federal Project Officer for review at least 60 days prior to the targeted meeting date for approval. Briefing materials should be submitted to the Project Officer at least two weeks prior to the meeting for review and approval. The meeting should lead to the outcome of publications (e.g., strategy paper, tool, fact sheet, etc.) related to the topic discussed. In addition the awardee should submit a summary report of the meeting within 30 working days.

Task 7—Project Administration and Management

A. The awardee shall meet with FTA point of contact within ten (10) working days after award to discuss the objectives of the cooperative agreement, roles and responsibilities, and any related projects.

B. The awardee will hold monthly meetings with FTA point of contact to review the status of the project, with the option to have additional meetings as necessary. Areas of concern are: (1) Accomplishments to date, (2) reviewing progress on tasks, and (3) challenges or problems in addressing specific tasks or meeting targeted deliverable dates. The awardee shall provide minutes of the meeting to the Project Officer within five business days of the meeting.

C. The awardee shall submit quarterly progress reports to the FTA point of contact. The reports shall include the following items and provide information relevant for the particular period:

• General assessment of the progress of the Center development and design.

• Significant accomplishments by objective and task.

• Summary of technical assistance services requested.

• Summary of technical assistance services provided.

• Project issues/concerns and recommended solutions.

• Updated project schedule.

—Status of current tasks

—List of completed tasks

—Percent complete by task

—If slips in the schedule occur, the awardee shall propose how to mitigate the schedule deviation(s)

• Total budget by task.

—Amount spent to date by task

—Amount remaining by task

• Travel expense report.

D. The awardee will brief FTA and other stakeholders, such as the bureaus within the DOI and the United States Department of Agriculture Forest Service, semi-annually on their technical assistance findings, key themes and results. The awardee will produce a semi-annual report that shall include: (1) Up-to-date budget information; (2) status of accomplishments for each Task 1-6; and (3) deliverables for the subsequent reporting period (next 6 months) for each Task 1-6. The awardee will provide a copy of the report to members of the Interagency Working Group a week before a scheduled briefing to be accomplished either face-to-face or via conference call.

II. Award Information

FTA will fund one cooperative agreement with one base year and two option years. Year one of the cooperative agreement is for one and one-half million dollars ($1,500,000). The anticipated notification date is January 15, 2009, with an anticipated starting date for the successful applicant of March 3, 2009. Subsequent annual funding will be based on annual appropriations and annual performance evaluations by FTA. Awardees with existing FTA projects are eligible to compete for this cooperative agreement. FTA will participate in activities by attending review meetings, commenting on reports, maintaining frequent contact with the project manager and approving key decisions, including travel authorizations, and any redirecting of activities if needed.

III. Eligibility Information

FTA is particularly interested in proposals for this cooperative agreement from organizations with demonstrated experience in land- and water-based transportation system planning and in working with Federal land management agencies or in the context of rural transportation. A strong applicant has the following characteristics:

• Experience working cooperatively and effectively on multidisciplinary teams in relationship to transportation issues within and/or near Federal land management units;

• Experience and demonstrated capacity for providing effective off-site technical assistance, including technical assistance by telephone and e-mail, topic-based conference calls, the Internet (including the development of Web content), etc.;

• Capacity for developing and managing a technical assistance network using multiple types of strategies (e.g., long distance, Web-based, peer-to-peer, communities of practice, etc.);

• Capacity for maintaining and managing information resources and related systems;

• Implementation of client-directed services;

• Capacity for successful outreach and communications strategies in advertising and solicitation of interest in services;

• Capacity and experience in building coordination and collaboration between public and private sector;

• Understanding the planning and implementation of a range of transportation system options on Federal lands, particularly within the context of resource protection and visitor experience concerns;

• Demonstrated capacity and experience in coordinating events;

• Demonstrated capacity and experience in developing and conducting Web-based and face-to-face training; and

• Ability to breathe new life into a program by creating something new or revamping an existing structure.

Award of this cooperative agreement will be determined by the proposal that offers to provide the greatest value to the beneficiaries of the FTA National Technical Assistance Center for Parks and Public Lands in terms of performance rather than the proposal offering the lowest price. Applicants may propose to provide some or all of the services listed in the tasks described in the Scope of Work above. FTA reserves the right to award one or more cooperative awards.

IV. Proposal Content

Proposals should be submitted in double-spaced format using Times New Roman 12 point font. The application must contain the following components:

1. Cover sheet (1 Page): Includes entity submitting proposal, title, and contact information (e.g., address, phone, fax, and e-mail). Name and contact information for the entity's key point of contact for all cooperative activities (if different from entity submitting proposal) shall also be provided.

2. Abstract (2 Pages): Abstract should include background, purpose, methodology, intended outcomes, and plan for evaluation.

3. Detailed budget proposal and budget narrative.

4. Project narrative (not to exceed 80 pages): Project narrative shall include the following information:

a. Staff qualifications, experience in providing technical assistance and implementing the tasks outlined in the solicitation. The proposal shall also include the proposed staff members' knowledge of issues related to alternative transportation on federal lands. One page biographical sketches for staff members shall be included in the appendices section of the proposal;

b. Existing and future capacity of organization to address the issues outlined in the proposal and ability to implement tasks 1-6 outlined under section I in this solicitation;

c. Methodology for addressing tasks 1-6 outlined under section I in this solicitation. The proposal shall also include objectives, activities, deliverables, milestones, timeline and intended outcomes for achieving the goals outlined in the scope for the first year;

d. Plan to work with stakeholders and build partnerships at the national, state, and local levels;

5. Project Management Plan that includes well-defined objectives, tasks, activities, timelines, deliverables, indicators, and outcomes.

6. Plan for evaluation of the Center activities and data collection.

7. Supplemental materials can be included in an appendices section that is beyond the 50 page limit. In addition to the full proposal, entities have the option to submit supplemental material such as: brochures, publications, products, etc. These materials shall be delivered electronically to Scott Faulk, Federal Transit Administration, 1200 New Jersey Avenue, SE., East Building, E44-417, Washington, DC 20590 or to Scott.Faulk@dot.gov.

V. Application Review Process and Evaluation Criteria

An interdisciplinary review panel, including those external to FTA will be convened to review each proposal. Proposals will be evaluated based on the following criteria and scoring system:

1. Staff qualifications, which includes experience in delivering technical assistance and training, knowledge of alternative transportation systems (particularly those on federal lands), demonstrated process skills in assessment, strategic planning, facilitation, and other key areas associated with identified tasks. The entity shall also address a plan for knowledge retention. (20%)

2. Existing capacity of the organization, which includes clearinghouse functions, web development and maintenance, technical assistance, training, long distance and on-site assistance strategies, and other identified tasks. (15%)

3. Understanding and reasonableness of proposed goals, objectives, methodologies, activities, timelines, deliverables, and budget. (40%)

4. Plan to collaborate and implement outreach activities with stakeholders and establish effective partnerships for transportation planning activities. (15%)

5. Plan for evaluation and data collection. (10%)

6. FTA may elect to meet in person two or three of the most qualified applicants.

This meeting will be held at the Department of Transportation in Washington, DC. The applicants will be notified of a date and time during which they will be asked to present their proposal to the FTA review panel. If an entity proposes to perform an individual task or tasks less than the full project, the proposal will be evaluated accordingly on its merits. If selected, the proposer may be asked to form a consortium with the applicant chosen to manage the larger project.

VI. Award Administration Information

The anticipated notification date for the award of the cooperative agreement is the January 15, 2009, with an anticipated start date for the successful applicant by March 3, 2009. FTA will notify the successful entity. Following the receipt of the FTA Administrator's notification letter, the successful entity will be required to submit its proposal through the FTA Transportation Electronic Award Management (TEAM) system Web site. FTA will manage the cooperative agreement through the TEAM system Web site. Before FTA may award Federal financial assistance through a Federal cooperative agreement, the entity must submit all certifications and assurances pertaining to itself and its project as required by Federal laws and regulations. Since FY 1995, FTA has been consolidating the various certifications and assurances that may be required of its awardees and the projects into a single document published in the Federal Register. The FY 2008 Annual List of Certifications and Assurances for FTA Cooperative Agreements and Guidelines has been published in the Federal Register and posted on the FTA Web site at http://www.fta.dot.gov.

Issued in Washington, DC, this 17th day of October 2008.
James S. Simpson,
Administrator.

[FR Doc. E8-25630 Filed 10-30-08; 8:45 am]

BILLING CODE 4910-57-P